DEPARTMENT OF THE INTERIOR

Minerals Management Service

Agency Information Collection Activities: Proposed Collection; Comment Request

AGENCY: Minerals Management Service (MMS), Interior.

ACTION: Notice of extension of an information collection (1010-0151).

SUMMARY: To comply with the Paperwork Reduction Act of 1995 (PRA), MMS is inviting comments on a collection of information that we will submit to the Office of Management and Budget (OMB) for review and approval. The information collection request (ICR) concerns the paperwork requirements in the rulemaking for 30 CFR 250, Subpart B, “Plans and Information.”

DATES: Submit written comments by February 15, 2005.

ADDRESSES: You may submit comments by any of the following methods listed below. Please use the Information Collection Number 1010-0151 as an identifier in your message.

• Public Connect on-line commenting system, https://ocsconnect.mms.gov. Follow the instructions on the Web site for submitting comments.

• Federal eRulemaking Portal: http://www.regulations.gov. Follow the instructions on the Web site for submitting comments.

• E-mail MMS at rules.comments@mms.gov. Identify with the Information Collection number in the subject line.

• Fax: 703-787-1093. Identify with the Information Collection Number.

• Mail or hand-carry comments to the Department of the Interior; Minerals Management Service; Attention: Rules Process Team (RPT); 381 Elden Street, MS-4024; Herndon, Virginia 20170-4817. Please reference “Information Collection 1010-0151” in your comments.

FOR FURTHER INFORMATION CONTACT: Cheryl Blundon, Rules Processing Team at (703) 787-1600. You may also contact Cheryl Blundon to obtain a copy, at no cost, of the regulation and associated forms that require the subject collection of information.

SUPPLEMENTARY INFORMATION: Title: 30 CFR 250, Subpart B, “Plans and Information.”

OMB Control Number: 1010-0151.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Sections 11 and 25 of the amended OCS Lands Act require the holders of OCS oil and gas or sulphur leases to submit exploration plans (EPs) or development and production plans (DPPs) to the Secretary for approval prior to commencing these activities.

Section 43 U.S.C. 1356 requires the issuance of “* * * regulations which require that any vessel, rig, platform, or other vehicle or structure * * * (2) which is used for activities pursuant to this subchapter, comply * * * with such minimum standards of design, construction, alteration, and repair as the Secretary * * * establishes. * * *” Section 43 U.S.C. 1332(6) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to the Minerals Management Service (MMS) to ensure that operations in the OCS will meet statutory requirements; provide for safety and protection of the environment; and result in diligent exploration, development, and production of OCS leases.

MMS proposed a complete revision of the 30 CFR 250, subpart B regulations (67 FR 35372, May 17, 2002), and OMB approved the information collection requirements under control number 1010-0151, expiration June 2005. This submission is a renewal of the information requirements for the rulemaking and is required to prevent the expiration of OMB approval under 1010-0151; the ICR reflects what we expect to be in our final rulemaking, which is in surnaming.

Specifically, MMS uses the information to evaluate, analyze, determine, or ensure that:

• Ancillary activities comply with appropriate laws or regulations and are conducted safely, protect the environment, and do not interfere or conflict with the other uses of the OCS (i.e., military use, subsistence activity).

• Points of contact and responsible parties are designated for proposed activities.

• Surveying, monitoring, or other activities do not interfere or conflict with preexisting and other uses of the area.

• Plans or actions meet or implement lease stipulation requirements.

• Proposed exploration, drilling, production, and pipeline activities are conducted in a safe and acceptable manner for the location and water depth proposed and conserve reservoir energy to allow enhanced recovery operations in later stages of lease development.

• Unnecessary or incompatible facilities are not installed on the OCS.

• Shallow drilling hazards (such as shallow gas accumulations or mud slide areas) are avoided.

• Areas are properly classified for H2S, and appropriate procedures are in place.

• Appropriate oil spill planning measures and procedures are implemented.

• Expected meteorological conditions at the activity site are accommodated.

• Environmentally sensitive areas are identified, and the direct and cumulative effects of the activities are minimized.

• Offshore and onshore air quality is not significantly affected by the proposed activities.

• Waste disposal methods and pollution mitigation techniques are appropriate for local conditions.

• State CZM requirements have been met.

• Archaeological or cultural resources are identified and protected from unreasonable disturbances.

• Socioeconomic effects of the proposed project on the local community and associated services have been determined.

• Support infrastructures and associated traffic are adequately covered in plans.

The following forms used in the Gulf of Mexico Region (GOMR) are also submitted to MMS. With the exception of the last form, OMB approved these forms as part of the information collection for the current subpart B regulations.

• Form MMS-137 (Plan Information Form) is submitted to summarize plan information. MMS uses the information to assist in data entry and review of submitted OCS plans. This form asks for, in either fill in the blanks or check marks: General information relating to the company; description of proposed activities; tentative schedule of proposed activities; description(s) of drilling rig, production platform, lease term pipelines; proposed well structure location; and anchor locations for drilling rig or construction barge.

• Forms MMS-138 (GOM Air Emissions Calculations for Exploration Plans) and MMS-139 (GOM Air Emissions Calculations for Development Operations Coordination Documents (DOCDs)) are submitted to standardize the way potential air emissions are estimated and approved as part of the OCS plan. These forms are intended to be thorough but flexible to meet the needs of different operators. The data from these forms determine the air emissions on the environment. These forms consist of: Title sheet, factors sheet, emissions spreadsheet and a summary sheet which will describe and calculate emissions from an activity. Respondents are asked to categorize emissions into 9 factors: natural gas prime movers, diesel-fired prime movers, heaters/boilers/firetubes/NG-fired, gas glares, liquid flares, tanks, fugitives, glycol dehydrator vent, and gas venting.

• Form MMS-141 (ROV Survey Report) is submitted to report the observations and information recorded from 2 sets of ROV monitoring surveys to identify high-density biological communities that may occur on the seafloor in deep water. The form asks respondents for general operator/facility information and a transect drawing of the survey pattern made by the ROV; a video tape (VHS) and transcript of what was visualized at the bottom throughout deployment (the form includes a guide to animal groups and a guide to physical features), and any additional imagery that helps depict bottom conditions. We use the information when such areas are found to help design mitigation measures to avoid these areas in the future. We also use the information to help assess the effectiveness of avoidance criteria and expand the knowledge base regarding the benthic habitats of the deep water seafloor.

• Form MMS-NEW (Environmental Impact Analysis Matrix) is a new fill in the blank matrix form proposed to be submitted to identify the environmental impact-producing factors (IPFs) for the listed environmental resources. We use the information to assess impact and determine compliance with the National Environmental Policy Act. A form number will be assigned when final regulations take effect. Respondents are asked to fill in the blank by placing an “x” in the space under each IPF category associated with the proposed activity that may impact a particular environmental resource. The environmental resources listed on this form are: Site-specific at Offshore Location such as chemosynthetic communities, water quality, fisheries to name a few; Vicinity of Offshore Location such as essential fish habitat; Coastal and Onshore such as beaches and wetlands.

We will protect information from respondents considered proprietary under the Freedom of Information Act (5 U.S.C. 552) and its implementing regulations (43 CFR Part 2) and under regulations at 30 CFR 250.196, “Data and information to be made available to the public”. No items of a sensitive nature are collected. Responses are mandatory.

Frequency: On occasion.

Estimated Number and Description of Respondents: Approximately 150 Federal OCS oil and gas or sulphur lessees.

Estimated Reporting and Recordkeeping “Hour” Burden: The currently approved annual reporting burden for this collection is 267,880 hours. During the interim period between proposed and final rules, OMB approved the renewal of the information collection burden in the current subpart B regulations (1010-0049). After consultations with respondents, we revised the estimates of the hour burdens and the annual number of responses. We have incorporated those updated burden adjustments in this renewal. Therefore, we are requesting an “adjustment” increase of 52,935 hours for 1010-0151. The following chart details the individual components and respective hour burden estimates of this ICR. In calculating the burdens, we assumed that respondents perform certain requirements in the normal course of their activities. We consider these to be usual and customary and took that into account in estimating the burden.

Citation 30 CFR 250 subpart B | Reporting & recordkeeping requirement | Hour burden
200 through 206 | General requirements for plans and information | Burden included with specific requirements below.
208 | Notify MMS and other users of the OCS before conducting ancillary activities | 10.
210(a) | Submit report summarizing & analyzing data/information obtained or derived from ancillary activities | 1.
210(b) | Retain ancillary activities data/information | 2.
211 through 228 | Submit EP and accompanying information (including forms MMS-137, MMS-138, MMS-NEW used in GOMR) and provide notifications | 640.
232(d); 234; 235(a); 281(d)(3); 283; 284; 285 | Submit amended, modified, revised, or supplemental EP, or resubmit disapproved EP | 120.
241 through 262 | Submit DPP or DOCD and accompanying information (including forms MMS-137, MMS-139, MMS-NEW used in GOMR) and provide notifications | 690.
267(d); 272(a); 273; 283; 284; 285 | Submit amended, modified, revised, or supplemental DPP or DOCD, or resubmit disapproved DPP or DOCD | GOM Region 95. Pacific Region 600.
269(b) | Submit information on preliminary plans for leases or units in vicinity of proposed development and production activities | 2.
281(a) | Submit various applications | Burdens included under appropriate subpart or form (1010-0044;1010-0059; 1010-0058; 1010-0050).
282 | Retain monitoring plans, data/information | 2.
| Submit monitoring plans | 1.
282(b) | Submit monitoring reports and data (including form MMS-141 used in GOMR) | 2.
288 through 294 | Submit DWOP | 750.
296 through 298 | Submit CID | 443.
200 through 299 | General departure and alternative compliance requests not specifically covered elsewhere in subpart B regulations | 2.

Estimated Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: December 13, 2004.
E.P. Danenberger,
Chief, Offshore Regulatory Programs.

[FR Doc. 04-27652 Filed 12-16-04; 8:45 am]

BILLING CODE 4310-MR-P